COMMITTEE FOR PURCHASE FROM PEOPLE WHO ARE BLIND OR SEVERELY DISABLED

Procurement List; Addition and Deletions

AGENCY: Committee for Purchase From People Who Are Blind Or Severely Disabled.

ACTION: Addition to and deletions from Procurement List.

SUMMARY: This action adds to the Procurement List a service to be furnished by nonprofit agencies employing persons who are blind or have other severe disabilities, and deletes from the Procurement List services previously furnished by such agencies.

EFFECTIVE DATE: October 30, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Addition

On July 29, 2005, the Committee for Purchase From People Who Are Blind or Severely Disabled published notice (70 FR 43840) of proposed additions to the Procurement List.

After consideration of the material presented to it concerning capability of qualified nonprofit agencies to provide the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Base Supply Center, Maxwell Air Force Base, Alabama,

NPA: Alabama Industries for the Blind, Talladega, Alabama

Contracting Activity: 42nd Contracting Squadron/CC, Maxwell AFB, Alabama

Deletions

On July 29, 2005, the Committee for Purchase From People Who Are Blind or Severely Disabled published notice (70 FR 43840/41) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Base Supply Center, Naval Supply Center, Puget Sound, Building 467, Bremerton, Washington

NPA: Peninsula Services, Bremerton, Washington

Contracting Activity: Fleet and Industrial Supply Center, Puget Sound, Washington

Service Type/Location: Janitorial/Custodial, Federal Warehouse, 2760 NW. Yeon Avenue, Portland, Oregon

NPA: Portland Habilitation Center, Inc., Portland, Oregon

Contracting Activity: GSA, Public Buildings Service

Service Type/Location: Janitorial/Custodial, Ross Complex, 5411 NE. Highway 99, Vancouver, Washington

NPA: Portland Habilitation Center, Inc., Portland, Oregon

Contracting Activity: Department of Energy, Washington, DC

Service Type/Location: Janitorial/Custodial, U.S. Federal Building and Post Office, 256 Warner Milne Road, Oregon City, Oregon

NPA: Portland Habilitation Center, Inc., Portland, Oregon

Contracting Activity: General Services Administration

Service Type/Location: Janitorial/Custodial, U.S. Federal Building, 1709 Jackson Street, Omaha, Nebraska

NPA: Goodwill Specialty Services, Inc., Omaha, Nebraska

Contracting Activity: General Services Administration

Sheryl D. Kennerly,
Director, Information Management.

[FR Doc. E5-5337 Filed 9-29-05; 8:45 am]

BILLING CODE 6353-01-P